SMALL BUSINESS ADMINISTRATION

[Disaster Declaration #13294 and #13295]

Louisiana Disaster Number LA-00049

AGENCY: U.S. Small Business Administration.

ACTION: Amendment 1.

SUMMARY: This is an amendment of the Presidential declaration of a major disaster for Public Assistance Only for the State of Louisiana (FEMA-4080-DR), dated 09/12/2012.

Incident: Hurricane Isaac.

Incident Period: 08/26/2012 through 09/10/2012.

Effective Date: 09/21/2012.

Physical Loan Application Deadline Date: 11/13/2012.

Economic Injury (EIDL) Loan Application Deadline Date: 06/12/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Louisiana, dated 09/12/2012, is hereby amended to include the following areas as adversely affected by the disaster.

Primary Parishes: Ascension, East Baton Rouge, Jefferson, Livingston, Plaquemines, Saint Bernard, St John The Baptist, West Feliciana.

All other information in the original declaration remains unchanged.

(Catalog of Federal Domestic Assistance Numbers 59002 and 59008)

James E. Rivera,
Associate Administrator for Disaster Assistance.

[FR Doc. 2012-24088 Filed 9-28-12; 8:45 am]

BILLING CODE 8025-01-P